DEPARTMENT OF DEFENSE

Department of the Army

Programmatic Environmental Assessment for Real Property Master Plans on U.S. Army Installation Management Command Garrisons

AGENCY: Department of the Army, DoD.

ACTION: Notice of availability; address correction.

SUMMARY: The mailing address to submit written comments published in the Federal Register on Friday, April 24, 2020 (85 FR 23010) is incorrect. Written comments will now be sent by mail to U.S. Army Environmental Command, ATTN: Public Comments, 2455 Reynolds Road, Bldg 2266, Joint Base San Antonio-Fort Sam Houston, TX 78234-7588 or by email to usarmy.jbsa.aec.nepa@mail.mil.

FOR FURTHER INFORMATION CONTACT: U.S. Army Environmental Command Public Affairs Office at (210) 466-1590, toll-free at (855) 846-3940, or at usarmy.jbsa.aec.nepa@mail.mil.

SUPPLEMENTARY INFORMATION: None.

Brenda S. Bowen,
Army Federal Register Liaison Officer.

[FR Doc. 2020-09078 Filed 4-28-20; 8:45 am]

BILLING CODE 5061-AP-P